DEPARTMENT OF ENERGY

Federal Energy Regulatory Commission

[Project No. 12451-001]

SAF Hydroelectric, LLC; Notice of Intent To Prepare an Environmental Assessment, Notice of Paper Scoping and Soliciting Scoping Comments, and Notice of Revised Schedule for Processing Application

April 14, 2004.

Take notice that the following hydroelectric application has been filed with Commission and is available for public inspection:

a. Type of Application: Original major license.

b. Project No.: 12451-001.

c. Date Filed: January 20, 2004.

d. Applicant: SAF Hydroelectric, LLC.

e. Name of Project: Lower St. Anthony Falls Hydroelectric Project.

f. Location: On the Mississippi River, in the Town of Minneapolis, Hennepin County, Minnesota. The project affects federal lands.

g. Filed Pursuant to: Federal Power Act, 16 U.S.C. 791(a)-825(r).

h. Applicant Contact: Douglas A. Spaulding P.E., Spaulding Consultants, 1433 Utica Avenue South, Suite 162, Minneapolis, MN 55416, (952) 544-8133 or Robert Larson, 33 South 6th Street, Minneapolis, MN 55402, (612) 343-2913.

i. FERC Contact: Kim Carter at (202) 502-6486, or kim.carter@ferc.gov.

j. Deadline for Filing Scoping Comments: 60 days from issuance date of this notice.

All documents (original and eight copies) should be filed with: Magalie R. Salas, Secretary, Federal Energy Regulatory Commission, 888 First Street, NE., Washington, DC 20426.

The Commission's rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filing. See 18 CFR 385.2001(a)(1)(iii) and the instructions on the Commission's Web site (http://www.ferc.gov) under the “e-Filing” link. After logging into the e-Filing system, select “Comment on Filing” from the Filing Type Selection screen and continue with the filing process.

k. This application is not ready for environmental analysis at this time.

l. Description of Project: The proposed Lower St. Anthony Falls Hydroelectric Project would be located at the U.S. Army Corps of Engineers (Corps) Lower St. Anthony Falls Lock and Dam and would utilize 5.9 acres of Corps lands. The generation turbines would be located in an auxiliary lock chamber adjacent to the Corps' main lock chamber. An auxiliary building, storage yard, and buried transmission line would occupy additional Corps lands. The project would operate according to the Corps' current operating criteria which maintains a constant water surface elevation of approximately 750.0 mean sea level in the 33.5-acre reservoir.

The proposed project would consist of the following features: (1) 16 turbine/generator units grouped in eight 6.2-foot-wide by 12.76-foot-high steel modules having a total installed capacity of 8,980 kilowatts, each module contains 2 turbine/generator sets (two horizontal rows of 1 unit each) installed in eight stoplog slots on the auxiliary lock structure; (2) trashracks located at the turbine intake; (3) a 200-foot-long sheet pile/concrete guide wall, located between the main lock and auxiliary lock, to facilitate navigation; (4) a 1,050-foot-long, 13,800-volt buried transmission line; (3) a 21-foot by 81-foot control building to house switchgear and controls; (4) a 20-foot by 30-foot project office and storage building; and (5) appurtenant facilities.

The applicant estimates that the average annual generation would be about 57,434,000 kilowatt-hours.

m. A Scoping Document (SD) outlining the subject areas to be addressed in the EA was distributed to the parties on the Commission's mailing list. Copies of the scoping document and application are available for review at the Commission in the Public Reference Room or may be viewed on the Commission's Web site at http://www.ferc.gov using the “eLibrary” link. Enter the docket number, excluding the last three digits in the docket number field (P-12451), to access the document. For assistance, contact FERC Online Support at FERCOnlineSupport@ferc.gov, or toll-free at 1-866-208-3676, or for TTY, (202) 502-8659. A copy is also available for inspection and reproduction at the address in paragraph (h) above.

n. You may also register online at http://www.ferc.gov/esubscribenow.htm to be notified via email of new filings and issuances related to this or other pending projects. For assistance, contact FERC Online Support.

o. Scoping Process: Scoping is intended to advise all parties regarding the proposed scope of the EA and to seek additional information pertinent to this analysis. The Commission intends to prepare one Environmental Assessment (EA) on the project in accordance with the National Environmental Policy Act (NEPA). The EA will consider both site-specific and cumulative environmental effects and reasonable alternatives to the proposed action. Should substantive comments requiring re-analysis be received on the NEPA document, we would consider preparing a final NEPA document.

At this time, the Commission staff does not anticipate holding formal public or agency scoping meetings near the project site. Instead, staff will conduct paper scoping.

As part of scoping the staff will: (1) Summarize the environmental issues tentatively identified for analysis in the EA; (2) solicit from participants all available information, especially quantifiable data, on the resources at issue; (3) encourage comments from experts and the public on issues that should be analyzed in the EA, including viewpoints in opposition to, or in support of, the staff's preliminary views; (4) determine the resource issues to be addressed in the EA; and (5) identify those issues that require a detailed analysis, as well as those issues that do not require a detailed analysis.

Consequently, interested entities are requested to file with the Commission any data and information concerning environmental resources and land uses in the project area and the project's impacts to the aforementioned.

p. Procedural Schedule: The schedule for processing the Application has been revised as follows. Revisions to the schedule will be made if the Commission determines it necessary to do so:

Action | Tentative date
Issue Scoping Document 1 | April 2004.
Request Additional Information (if needed) | July 2004.
Issue Notice of Ready for Environmental Analysis | July/August 2004.
Issue Notice of availability of EA | December 2004.
Public Comments on EA Due | January 2005.
Ready for Commission decision on the application | April 2005.

Unless substantial comments are received in response to the EA, staff intends to prepare a single EA in this case. If substantial comments are received in response to the EA, a final EA will be prepared with the following modifications to the schedule.

Action | Tentative date
Notice of the availability of the final EA | April 2005.
Ready for Commission's decision on the application | June 2005.

Magalie R. Salas,
Secretary.

[FR Doc. E4-934 Filed 4-26-04; 8:45 am]

BILLING CODE 6717-01-P